DEPARTMENT OF ENERGY

Federal Energy Regulatory Commission

Combined Notice of Filings #1

Take notice that the Commission received the following electric corporate filings:

Docket Numbers: EC14-82-000.

Applicants: Orlando CoGen Limited, L.P., Cambria CoGen Company, Vandolah Power Company L.L.C.

Description: Supplement to April 29, 2014 Joint Application for Approval Under Section 203 of the Federal Power Act and Request for Expedited Action and Privileged Treatment of Cambria CoGen Company, et. al.

Filed Date: 5/14/14.

Accession Number: 20140514-5015.

Comments Due: 5 p.m. ET 5/27/14.

Take notice that the Commission received the following electric rate filings:

Docket Numbers: ER04-835-000; EL04-103-000.

Applicants: California Independent System Operator Corporation, Pacific Gas and Electric Company.

Description: Informational Report on Status of Settlement Adjustments of California Independent System Operator Corporation.

Filed Date: 5/12/14.

Accession Number: 20140512-5254.

Comments Due: 5 p.m. ET 6/2/14.

Docket Numbers: ER14-1956-000.

Applicants: Panther Creek Power Operating, LLC.

Description: Reactive Power Tariff Filing to be effective 5/15/2014.

Filed Date: 5/14/14.

Accession Number: 20140514-5030.

Comments Due: 5 p.m. ET 6/4/14.

Docket Numbers: ER14-1957-000.

Applicants: Liberty Utilities (Granite State Electric) Corp., Massachusetts Electric Company.

Description: Provision of Electric Services Cost Adjustment and Settlement Agreement of Liberty Utilities (Granite State Electric) Corp. and Massachusetts Electric Company.

Filed Date: 5/12/14.

Accession Number: 20140512-5256.

Comments Due: 5 p.m. ET 6/2/14.

Docket Numbers: ER14-1958-000.

Applicants: Florida Power & Light Company.

Description: FPL Revisions to Seminole Rate Schedule FERC No. 318 to be effective 6/1/2014.

Filed Date: 5/14/14.

Accession Number: 20140514-5069.

Comments Due: 5 p.m. ET 6/4/14.

Docket Numbers: ER14-1959-000.

Applicants: PacifiCorp.

Description: MDU A&R Interconnection Agmt—Sheridan Sub to be effective 7/14/2014.

Filed Date: 5/14/14.

Accession Number: 20140514-5082.

Comments Due: 5 p.m. ET 6/4/14.

Docket Numbers: ER14-1960-000.

Applicants: PJM Interconnection, L.L.C.

Description: Original Service Agreement No. 3810; Non-Queue to be effective 5/1/2014.

Filed Date: 5/14/14.

Accession Number: 20140514-5117.

Comments Due: 5 p.m. ET 6/4/14.

Docket Numbers: ER14-1961-000.

Applicants: ITC Midwest LLC.

Description: Filing of CIAC Agreement with Crystal Lake Wind II to be effective 7/14/2014.

Filed Date: 5/14/14.

Accession Number: 20140514-5132.

Comments Due: 5 p.m. ET 6/4/14.

Docket Numbers: ER14-1962-000.

Applicants: ITC Midwest LLC.

Description: Filing of CIAC Agreement with Crystal Lake Wind III to be effective 7/14/2014.

Filed Date: 5/14/14.

Accession Number: 20140514-5137.

Comments Due: 5 p.m. ET 6/4/14.

Docket Numbers: ER14-1963-000.

Applicants: UGI Utilities Inc., PJM Interconnection, L.L.C.

Description: UGI submits Ministerial Corrections to PJM OATT Attachment H-8C & H-8D to be effective 5/15/2014.

Filed Date: 5/14/14.

Accession Number: 20140514-5146.

Comments Due: 5 p.m. ET 6/4/14.

Take notice that the Commission received the following electric securities filings:

Docket Numbers: ES14-35-000.

Applicants: Consumers Energy Company.

Description: Amendment to April 18, 2014 Application for Authority to Issue Securities of Consumers Energy Company.

Filed Date: 5/14/14.

Accession Number: 20140514-5081.

Comments Due: 5 p.m. ET 5/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2014.
Nathaniel J. Davis, Sr.,
Deputy Secretary.

[FR Doc. 2014-11765 Filed 5-20-14; 8:45 am]

BILLING CODE 6717-01-P